TENNESSEE VALLEY AUTHORITY

Meeting; Sunshine Act

Agency Holding the Meeting: Tennessee Valley Authority (Meeting No. 09-04).

Time and Date: 3 p.m., July 21, 2009. TVA West Tower Auditorium, 400 West Summit Hill Drive, Knoxville, TN.

Status: Open.

Agenda

Action on the following New Business

1. Selection of Senior Vice President, Communications.

2. Kingston Report.

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: July 14, 2009.
Maureen H. Dunn,
General Counsel and Secretary.

[FR Doc. E9-17141 Filed 7-15-09; 11:15 am]

BILLING CODE 8120-08-P